DEPARTMENT OF ENERGY

Federal Energy Regulatory Commission

[Project No. 14538-001]

Go with the Flow Hydro Power, LLC; Notice of Application Tendered for Filing With the Commission and Soliciting Additional Study Requests

Take notice that the following hydroelectric application has been filed with the Commission and is available for public inspection.

a. Type of Application: Exemption From Licensing

b. Project No.: P-14538

c. Date filed: May 5, 2014

d. Applicant: Go with the Flow Hydro Power, LLC

e. Name of Project: Go with the Flow Hydroelectric Project

f. Location: The proposed project is located on the Umatilla River, approximately 1.3 miles southwest of the city of Hermiston, Umatilla County, Oregon. The proposed project would not occupy any federal lands.

g. Filed Pursuant to: Public Utility Regulatory Policies Act of 1978, 16 U.S.C. 2705, 2708.

h. Applicant Contact: Mark Sigl, Go with the Flow Hydro Power, LLC, 8021 Firestone Way, Antelope, California 95843

i. FERC Contact: Sean O'Neill at (202) 502-6462; or email at sean.oneill@ferc.gov

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 7, 2014

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14538-001.

m. The application is not ready for environmental analysis at this time.

n. The proposed project would use the following existing facilities from an abandoned hydroelectric project: (1) a 3.5-foot-high, 120-foot-long concrete diversion weir, (2) a concrete intake structure with trashrack, (3) a 5,350-foot-long earthen power canal, (4) a concrete penstock headworks structure, (5) four 5-foot-diameter, 280-foot-long welded steel penstocks, (6) a 60-foot by 35-foot powerhouse, (7) a 20-foot by 12-foot metal controlhouse, (8) four 300-kilowatt vertical propeller turbine-generators, (9) a substation interconnecting to the transmissions lines operated by Pacific Power and Light Company, (10) a 60-foot-wide, 25-foot-long screened earthen tailrace discharging into the Umatilla River, and (11) appurtenant facilities. The applicant is proposing a new fish bypass at the diversion weir, and refurbishing and replacing the fish screens at the intake structure. The estimated annual project generation is 3,000 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Oregon State Historic Preservation Officer (SHPO), as required by section 106 of the National Historic Preservation Act and the regulations of the Advisory Council on Historic Preservation, 36 CFR 800.4.

q. Procedural schedule: The application will be processed according to the following preliminary schedule. Revisions to the schedule will be made as appropriate (e.g., if there are no deficiencies and/or scoping is waived, the schedule would be shortened).

Issue Deficiency Letter | May 2014
Issue Notice of Acceptance | July 2014
Issue Scoping Document August 2014
Issue Notice ready for environmental analysis | October 2014
Issue Notice of the availability of the EA | March 2015

Dated: May 16, 2014.
Kimberly D. Bose,
Secretary.

[FR Doc. 2014-11865 Filed 5-21-14; 8:45 am]

BILLING CODE 6717-01-P